DEPARTMENT OF THE INTERIOR

National Park Service

[NPS-WASO-NAGPRA-NPS0040260; PPWOCRADN0-PCU00RP14.R50000]

Notice of Inventory Completion: Missouri Historical Society, St. Louis, MO

AGENCY: National Park Service, Interior.

ACTION: Notice.

SUMMARY: In accordance with the Native American Graves Protection and Repatriation Act (NAGPRA), the Missouri Historical Society (MHS) has completed an inventory of human remains and associated funerary objects and has determined that there is a cultural affiliation between the human remains and associated funerary objects and Indian Tribes or Native Hawaiian organizations in this notice.

DATES: Repatriation of the human remains and associated funerary objects in this notice may occur on or after July 7, 2025.

ADDRESSES: Send written requests for repatriation of the human remains and associated funerary objects in this notice to Brady Wolf, Missouri Historical Society, 225 S Skinker Blvd., St. Louis, MO 63105, email bwolf@mohistory.org.

SUPPLEMENTARY INFORMATION: This notice is published as part of the National Park Service's administrative responsibilities under NAGPRA. The determinations in this notice are the sole responsibility of the MHS, and additional information on the determinations in this notice, including the results of consultation, can be found in its inventory or related records. The National Park Service is not responsible for the determinations in this notice.

Abstract of Information Available

Human remains representing, at least, five individuals have been identified. The 240 associated funerary objects are 141 lithics, 25 ceramic vessels, nine lots of ceramic sherds, 27 modified stones, six lots of shell beads, 25 partial lithics, and seven ceramic and stone pipes.

From 1906-1907 archaeologist Gerard Fowke performed a series of excavations across central and southern Missouri under the auspices of the St. Louis branch of the Archaeological Institute of America. During these excavations he disinterred several burials in Boone County, Missouri. Boone County burials excavated by Fowke include: Dawson Mounds (23BO09), Easley Mounds (23BO10), Baumhoefer Mounds (23BO11), Buescher Mounds (23BO12), and Shaw Mounds (23BO40). The ancestors and associated funerary objects taken from these mounds were transferred to the MHS at an unknown date and catalogued during a 1993 internal inventory. MHS records do not indicate the presence of any known hazardous substances.

Cultural Affiliation

Based on the information available and the results of consultation, cultural affiliation is reasonably identified by the geographical location or acquisition history of the human remains and associated funerary objects described in this notice.

Determinations

The MHS has determined that:

• The human remains described in this notice represent the physical remains of five individuals of Native American ancestry.

• The 240 objects described in this notice are reasonably believed to have been placed intentionally with or near individual human remains at the time of death or later as part of the death rite or ceremony.

• There is a connection between the human remains and associated funerary objects described in this notice and The Osage Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 7, 2025. If competing requests for repatriation are received, the MHS must determine the most appropriate requestor prior to repatriation. Requests for joint repatriation of the human remains and associated funerary objects are considered a single request and not competing requests. The MHS is responsible for sending a copy of this notice to the Indian Tribes and Native Hawaiian organizations identified in this notice.

Authority: Native American Graves Protection and Repatriation Act, 25 U.S.C. 3003, and the implementing regulations, 43 CFR 10.10.

Dated: May 21, 2025.
Melanie O'Brien,
Manager, National NAGPRA Program.

[FR Doc. 2025-10133 Filed 6-3-25; 8:45 am]

BILLING CODE 4312-52-P